DEPARTMENT OF COMMERCE

National Oceanic and Atmospheric Administration

National Sea Grant Advisory Board

AGENCY: National Oceanic and Atmospheric Administration, Commerce.

ACTION: Notice of solicitation for nominations for potential National Sea Grant Advisory Board members.

SUMMARY: This notice responds to Section 209 of the Sea Grant Program Improvement Act of 1976 (Pub. L. 94-461, 33 U.S.C. 1128), which requires the Secretary of Commerce to solicit nominations at least once a year for membership on the National Sea Grant Advisory Board, an advisory committee that provides advice on the implementation of the National Sea Grant College Program.

DATES: Solicitation of nominations is open ended: Resumes may be sent to the address specified at any time.

ADDRESSES: Nominations should be sent to Ms. Elizabeth J. Ban; Designated Federal Officer, National Sea Grant Advisory Board; National Sea Grant College Program; 1315 East-West Highway, Room 11843; Silver Spring, Maryland 20910. Nominations (Word, PDF or in text of e-mail) may be sent via e-mail to Elizabeth.Ban@noaa.gov.

FOR FURTHER INFORMATION CONTACT: Ms. Elizabeth J. Ban; Designated Federal Officer, National Sea Grant Advisory Board; National Oceanic and Atmospheric Administration, National Sea Grant College Program; 1315 East-West Highway, Room 11843; Silver Spring, Maryland 20910; e-mail: Elizabeth.Ban@noaa.gov, phone 301-734-1082.

SUPPLEMENTARY INFORMATION: Established by Section 209 of the Act and as amended the National Sea Grant College Program Amendments Act of 2008 (Pub. L. 110-394), the duties of the Board are as follows:

(1) In general. The Board shall advise the Secretary and the Director concerning—

(A) Strategies for utilizing the sea grant college program to address the Nation's highest priorities regarding the understanding, assessment, development, management, utilization, and conservation of ocean, coastal, and Great Lakes resources;

(B) The designation of sea grant colleges and sea grant institutes; and

(C) Such other matters as the Secretary refers to the Board for review and advice.

(2) Biennial Report—The Board shall report to the Congress every two years on the state of the national sea grant college program. The Board shall indicate in each such report the progress made toward meeting the priorities identified in the strategic plan in effect under section 204 (c). The Secretary shall make available to the Board such information, personnel, and administrative services and assistance as it may reasonably require to carry out its duties under this title. The Secretary shall make available to the Board such information, personnel, and administrative services and assistance as it may reasonably require to carry out its duties.

The Board shall consist of 15 voting members who shall be appointed by the Secretary. The Director and a director of a Sea Grant program who is elected by the various directors of Sea Grant programs shall serve as nonvoting members of the Board. Not less than 8 of the voting members of the Board shall be individuals who, by reason of knowledge, experience, or training, are especially qualified in one or more of the disciplines and fields included in marine science. The other voting members shall be individuals who, by reason of knowledge, experience, or training, are especially qualified in, or representative of, education, marine affairs and resource management, coastal management, extension services, State government, industry, economics, planning, or any other activity which is appropriate to, and important for, any effort to enhance the understanding, assessment, development, management, utilization, or conservation of ocean, coastal, and Great Lakes resources. No individual is eligible to be a voting member of the Board if the individual is (A) the director of a Sea Grant college or Sea Grant institute; (B) an applicant for, or beneficiary (as determined by the Secretary) of, any grant or contract under section 205 [33 USCS § 1124]; or (C) a full-time officer or employee of the United States. The Director of the National Sea Grant College Program and one Director of a Sea Grant Program also serve as non-voting members. Board members are appointed for a 4-year term.

Dated: March 22, 2011.
Mark E. Brown,
Chief Financial Officer/Chief Administrative Officer, Office of Oceanic and Atmospheric Research, National Oceanic and Atmospheric Administration.

[FR Doc. 2011-7071 Filed 3-24-11; 8:45 am]

BILLING CODE 3510-KA-P